DEPARTMENT OF AGRICULTURE

Rural Utilities Service

Georgia Transmission Corporation; Notice of Finding of No Significant Impact

AGENCY: Rural Utilities Service, USDA.

ACTION: Notice of finding of no significant impact.

SUMMARY: Notice is hereby given that the Rural Utilities Service (RUS) has made a finding of no significant impact (FONSI) with respect to possible financing assistance to Georgia Transmission Corporation for the construction of 5 diesel electric generators at the existing Egypt Substation located just north of Egypt-Ardmore Road and approximately 600 feet west of Georgia Highway 21 in Effingham County, Georgia.

FOR FURTHER INFORMATION CONTACT: Bob Quigel, Environmental Protection Specialist, Engineering and Environmental Staff, RUS, Stop 1571, 1400 Independence Avenue, SW., Washington, DC 20250-1571, telephone (202) 720-0468, e-mail at bquigel@rus.usda.gov.

SUPPLEMENTARY INFORMATION: The initial construction will involve the placement of 4, 1825 kilowatt diesels, an 8000 gallon fuel tank, 4, 2.5 million volt-amp transformers, and a 12 kilovolt circuit breaker with protective relaying. The Egypt Substation will be graded and expanded in such a manner as to allow for the addition of one more 1825 kilowatt diesel generator should the load on the substation increase beyond 7.3 megawatts (4 × 1825 = 7300 kilowatts or 7.3 megawatts). The diesel generators will be constructed within sound attenuated enclosures with mufflers to reduce operating noise. In addition, a buffer of vegetation will be installed between the station and nearest residential properties to provide further attenuation of noise levels. The diesels will be unmanned as they can be operated from a remote location.

Copies of the FONSI are available for review at, or can be obtained from, RUS at the address provided herein or from Mr. R. Vince Howard, Georgia Transmission Corporation, 2100 East Exchange Place, Tucker, Georgia 30085-2088, telephone (770) 270-7635. Mr. Howard's e-mail address is vincent.howard@gatrans.com.

Dated: May 17, 2001.
Blaine D. Stockton,
Assistant Administrator, Electric Program.

[FR Doc. 01-13824 Filed 5-31-01; 8:45 am]

BILLING CODE 3410-13-P